DEPARTMENT OF COMMERCE

International Trade Administration

[A-427-801, A-428-801, A-475-801, A-588-804, A-412-801]

Ball Bearings and Parts Thereof From France, Germany, Italy, Japan, and the United Kingdom: Final Results of Antidumping Duty Administrative Reviews and Revocation of an Order in Part

AGENCY: Import Administration, International Trade Administration, Department of Commerce.

SUMMARY: On April 27, 2009, the Department of Commerce published the preliminary results of the administrative reviews of the antidumping duty orders on ball bearings and parts thereof from France, Germany, Italy, Japan, and the United Kingdom. The reviews cover 15 manufacturers/exporters. The period of review is May 1, 2007, through April 30, 2008.

Based on our analysis of the comments received, we have made changes, including corrections of certain programming and other ministerial errors, in the margin calculations. Therefore, the final results are different from the preliminary results. The final weighted-average dumping margins for the reviewed firms are listed below in the section entitled “Final Results of the Reviews.”

DATES: Effective Date: August 31, 2009.

FOR FURTHER INFORMATION: Yang Jin Chun or Richard Rimlinger, AD/CVD Operations, Office 5, Import Administration, International Trade Administration, U.S. Department of Commerce, 14th Street and Constitution Avenue, NW., Washington, DC 20230; telephone: (202) 482-5760 or (202) 482-4477, respectively.

SUPPLEMENTARY INFORMATION:

Background

On April 27, 2009, the Department of Commerce (the Department) published the preliminary results of the administrative reviews of the antidumping duty orders on ball bearings and parts thereof from France, Germany, Italy, Japan, and the United Kingdom. See Ball Bearings and Parts Thereof From France, et al.: Preliminary Results of Antidumping Duty Administrative Reviews and Intent to Revoke Order in Part, 74 FR 19056 (April 27, 2009) (Preliminary Results). For these administrative reviews, the period of review is May 1, 2007, through April 30, 2008.

We invited interested parties to comment on the Preliminary Results. At the request of an interested party, we held a hearing for Italy-specific issues on June 22, 2009. The Department has conducted these administrative reviews in accordance with section 751 of the Tariff Act of 1930, as amended (the Act).

Scope of the Orders

The products covered by the orders are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, and 8803.90.90.

As a result of changes to the HTSUS, effective February 2, 2007, the subject merchandise is also classifiable under the following additional HTSUS item numbers: 8708.30.50.90, 8708.40.75, 8708.50.79.00, 8708.50.89.00, 8708.50.91.50, 8708.50.99.00, 8708.70.60.60, 8708.80.65.90, 8708.93.75.00, 8708.94.75, 8708.95.20.00, 8708.99.55.00, 8708.99.68, 8708.99.81.80.

Although the HTSUS item numbers above are provided for convenience and customs purposes, the written descriptions of the scope of these orders remain dispositive.

The size or precision grade of a bearing does not influence whether the bearing is covered by one of the orders. These orders cover all the subject bearings and parts thereof (inner race, outer race, cage, rollers, balls, seals, shields, etc.) outlined above with certain limitations. With regard to finished parts, all such parts are included in the scope of these orders. For unfinished parts, such parts are included if they have been heat-treated or if heat treatment is not required to be performed on the part. Thus, the only unfinished parts that are not covered by these orders are those that will be subject to heat treatment after importation. The ultimate application of a bearing also does not influence whether the bearing is covered by the orders. Bearings designed for highly specialized applications are not excluded. Any of the subject bearings, regardless of whether they may ultimately be utilized in aircraft, automobiles, or other equipment, are within the scope of these orders.

For a list of scope determinations which pertain to the orders, see the “Memorandum to Laurie Parkhill” regarding scope determinations for the 2007-08 reviews, dated April 21, 2009, which is on file in the Central Records Unit (CRU) of the main Department of Commerce building, Room 1117, in the General Issues record (A-100-001).

Analysis of the Comments Received

All issues raised in the case briefs by parties to the current administrative reviews of the antidumping duty orders on ball bearings and parts thereof are addressed in the “Issues and Decision Memorandum” (Decision Memo) from Acting Deputy Assistant Secretary John M. Andersen to Acting Deputy Assistant Secretary Carole A. Showers dated August 25, 2009, which is hereby adopted by this notice. A list of the issues which parties have raised and to which we have responded is in the Decision Memo and attached to this notice as an Appendix. The Decision Memo, which is a public document, is on file in the CRU of the main Department of Commerce building, Room 1117, and is accessible on the Web at http://ia.ita.doc.gov/frn/index.html. The paper copy and electronic version of the Decision Memo are identical in content.

Revocation of an Order in Part

In the Preliminary Results, we preliminarily determined that Gebrüder Reinfurt GmbH & Co., KG (GRW), qualifies for revocation from the order on ball bearings and parts thereof from Germany pursuant to 19 CFR 351.222(b)(2)(i). Accordingly, in accordance with 19 CFR 351.222(b)(2)(ii), we preliminarily determined to revoke the order with respect to ball bearings and parts thereof from Germany exported and/or sold by GRW to the United States.

We have received comments concerning our intent to revoke the order on ball bearings and parts thereof from Germany exported and/or sold by GRW to the United States. See the Decision Memo at Comment 2 for further discussion of this issue. In accordance with 19 CFR 351.222(b)(2)(ii), we are revoking the order on ball bearings and parts thereof from Germany exported and/or sold by GRW to the United States, effective May 1, 2008.

Selection of Respondents

Due to the large number of companies in the reviews and the resulting administrative burden to review each company for which a request had been made and not withdrawn, the Department exercised its statutory authority under section 777A(c)(2) of the Act to limit the number of respondents selected for the reviews. Based on our analysis of the responses and our available resources, we chose certain companies for individual examination of their sales of the subject merchandise to the United States during the period of review. For a detailed discussion on the selection of respondents for individual examination, see Preliminary Results, 74 FR at 19057. For the final results, we have not changed the source of the rates we applied to respondents not selected for individual examination. See Preliminary Results, 74 FR at 19507-08. Because the margin for SKF Italy changed for the final results, we applied the final margin for SKF Italy to Schaeffler Italia S.r.L. (formerly FAG Italia S.p.A.), which is the sole Italian respondent not selected for individual examination. For discussions of the issues involving the rates for non-selected respondents, see the Decision Memo at Comment 13.

Adverse Facts Available

Two of the respondents we selected for individual examination, Edwards Ltd./Edwards High Vacuum Int'l Ltd. (Edwards Japan) of Japan and myonic GmbH (myonic) of Germany, did not provide responses to our questionnaire other than their responses to our quantity-and-value questionnaire. Because these two companies did not respond to our questionnaire fully, they failed to cooperate by not acting to the best of their ability and we could not complete the administrative reviews of these two companies. See Preliminary Results, 74 FR at 19058-59. We received no comments on our preliminary decision to apply adverse facts available to these companies. For our final results, we have based their margins on facts available with an adverse inference in accordance with section 776 of the Act.

As facts available with an adverse inference for these non-responsive companies, we have selected the rates of 70.41 percent for Germany and 73.55 percent for Japan. We corroborated these rates in accordance with section 776(c) of the Act. Id.

Sales Below Cost in the Home Market

The Department disregarded home-market sales that failed the cost-of-production test for the following firms for these final results of reviews:

Country | Company
France | SKF France S.A. and SKF Aerospace France S.A.S. (SKF France)
Germany | GRW
| Schaeffler KG
Italy | SKF Industrie S.p.A./Somecat S.p.A. (SKF Italy)
United Kingdom | Barden/Schaeffler UK
| SKF (U.K.) Limited (SKF UK)

Changes Since the Preliminary Results

Based on our analysis of comments received and based on our own analysis of the Preliminary Results, we have made revisions that have changed the results for certain firms. We have corrected programming and ministerial errors in the margins we included in the Preliminary Results, where applicable. A detailed discussion of each correction we made is in the company-specific analysis memoranda which are on file in the CRU of the main Department of Commerce building, Room 1117.

Final Results of the Reviews

We determine that the following percentage weighted-average dumping margins on ball bearings and parts thereof exist for the period May 1, 2007, through April 30, 2008:

Company | Margin (percent)
France
Edwards Ltd. and Edwards High Vacuum Int'l Ltd. | 10.13
SKF France | 10.13
Germany
Edwards Ltd. and Edwards High Vacuum Int'l Ltd. | 3.32
GRW | 0.10
myonic | 70.41
RWG Frankenjura Industrie Aircraft Bearings GmbH | 3.32
Schaeffler KG | 3.32
SKF GmbH | 3.32
Italy
Schaeffler Italy | 15.10
SKF Italy | 15.10
Japan
Edwards Japan | 73.55
Japanese Aero Engines Corporation | 0.00
Sapporo Precision Inc. | 6.65
United Kingdom
Barden/Schaeffler UK | 0.14
SKF UK | 18.64

Assessment Rates

The Department will determine and U.S. Customs and Border Protection (CBP) shall assess antidumping duties on all appropriate entries. We intend to issue appropriate assessment instructions directly to CBP 15 days after publication of these final results of reviews. In accordance with 19 CFR 351.212(b)(1), we have calculated, whenever possible, an importer/customer-specific assessment rate or value for subject merchandise.

The Department clarified its “automatic assessment” regulation on May 6, 2003. See Antidumping and Countervailing Duty Proceedings: Assessment of Antidumping Duties, 68 FR 23954 (May 6, 2003) (Assessment of Antidumping Duties). This clarification will apply to entries of subject merchandise during the period of review produced by companies included in these final results of reviews for which the reviewed companies did not know their merchandise was destined for the United States. In such instances, we will instruct CBP to liquidate unreviewed entries at the all-others rate if there is no rate for the intermediate company(ies) involved in the transaction. For a full discussion of this clarification, see Assessment of Antidumping Duties.

For the responsive companies which were not selected for individual review, we will instruct CBP to apply the rates listed above to all entries of subject merchandise that were produced and/or exported by such firms.

For companies for which we are relying on total adverse facts available to establish a dumping margin, we will instruct CBP to apply the assigned dumping margins to all entries of subject merchandise during the period of review that were produced and/or exported by the companies.

Export Price

With respect to export-price (EP) sales, we divided the total dumping margins (calculated as the difference between normal value and the EP) for each exporter's importer or customer by the total number of units the exporter sold to that importer or customer. We will direct CBP to assess the resulting per-unit dollar amount against each unit of merchandise on each of that importer's or customer's entries under the relevant order during the period of review.

Constructed Export Price

For constructed export-price (CEP) sales, we divided the total dumping margins for the reviewed sales by the total entered value of those reviewed sales for each importer. We will direct CBP to assess the resulting percentage margin against the entered customs values for the subject merchandise on each of that importer's entries under the relevant order during the period of review. See 19 CFR 351.212(b)(1).

Cash-Deposit Requirements

To calculate the cash-deposit rate for each respondent, i.e., each exporter and/or manufacturer included in these reviews, we divided the total dumping margins for each company by the total net value of that company's sales of merchandise during the period of review subject to each order.

To derive a single deposit rate for each respondent, we weight-averaged the EP and CEP deposit rates (using the EP and CEP, respectively, as the weighting factors). To accomplish this when we sampled CEP sales (see Preliminary Results, 74 FR at 19060), we first calculated the total dumping margins for all CEP sales during the period of review by multiplying the sample CEP margins by the ratio of total days in the period of review to days in the sample weeks. We then calculated a total net value for all CEP sales during the period of review by multiplying the sample CEP total net value by the same ratio. Finally, we divided the combined total dumping margins for both EP and CEP sales by the combined total value for both EP and CEP sales to obtain the deposit rate.

We will direct CBP to collect the resulting percentage deposit rate against the entered customs value of each of the exporter's entries of subject merchandise entered, or withdrawn from warehouse, for consumption on or after the date of publication of this notice. Entries of parts incorporated into finished bearings before sales to an unaffiliated customer in the United States will receive the respondent's deposit rate applicable to the order.

Furthermore, the following deposit requirements will be effective upon publication of this notice of final results of administrative reviews for all shipments of the subject merchandise entered, or withdrawn from warehouse, for consumption on or after the date of publication, consistent with section 751(a)(1) of the Act: (1) The cash-deposit rates for the reviewed companies will be the rates shown above except that, for firms whose weighted-average margins are less than 0.5 percent and therefore de minimis, the Department shall not require a deposit of estimated antidumping duties; (2) for previously reviewed or investigated companies not listed above, the cash-deposit rate will continue to be the company-specific rate published for the most recent period; (3) if the exporter is not a firm covered in this review, a prior review, or the original less-than-fair-value (LTFV) investigation but the manufacturer is, the cash-deposit rate will be the rate established for the most recent period for the manufacturer of the merchandise; (4) the cash-deposit rate for all other manufacturers or exporters will continue to be the all-others rate for the relevant order made effective by the final results of review published on July 26, 1993. See Final Results of Antidumping Duty Administrative Reviews and Revocation in Part of an Antidumping Duty Order, 58 FR 39729 (July 26, 1993). For ball bearings from Italy, see Antifriction Bearings (Other Than Tapered Roller Bearings) and Parts Thereof from France, et al.; Final Results of Antidumping Duty Administrative Reviews and Partial Termination of Administrative Reviews, 61 FR 66472, 66521 (December 17, 1996). These rates are the all-others rates from the relevant LTFV investigation.

These deposit requirements shall remain in effect until further notice.

Notification to Importers

This notice serves as a final reminder to importers of their responsibility under 19 CFR 351.402(f) to file a certificate regarding the reimbursement of antidumping duties prior to liquidation of the relevant entries during this period of review. Failure to comply with this requirement could result in the Department's presumption that reimbursement of antidumping duties occurred and the subsequent assessment of doubled antidumping duties.

Notification Regarding APOs

This notice also serves as a reminder to parties subject to administrative protective order (APO) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results in accordance with sections 751(a)(1) and 777(i) of the Act.

Dated: August 25, 2009.
Carole A. Showers,
Acting Deputy Assistant Secretary for Policy and Negotiations.

Appendix

1. Zeroing of Negative Margins

2. Verification for GRW's Revocation

3. 15-Day Liquidation Policy

4. CEP Offset and CEP Profit

5. Sample Sales

6. Short-Term U.S. Interest Rates

7. Freight, Insurance, and Packing Revenue

8. Rate for Firms Not Selected for Individual Examination

9. Miscellaneous Issues

A. Freight Expense

B. Packing Expense

C. Imputed Credit

D. Completeness of Database

E. Cost of Grease

10. Ministerial Errors

[FR Doc. E9-20980 Filed 8-28-09; 8:45 am]

BILLING CODE P